DEPARTMENT OF AGRICULTURE

Natural Resources Conservation Service

PL83-566 Watershed Protection and Flood Prevention Act Pocasset River Watershed, Providence County, RI

AGENCY: Natural Resources Conservation Service.

ACTION: Notice of Intent to Prepare an Environmental Impact Statement.

SUMMARY: Pursuant to Section 102(2) (C) of the National Environmental Policy Act of 1969; the Council of Environmental Quality Guidelines (40 CFR part 1500); and the Natural Resources Conservation Service Guidelines (7 CFR part 650): The Natural Resources Conservation Service, U.S. Department of Agriculture, gives notice that an environmental impact statement is being prepared for Pocasset River Watershed, Providence County, Rhode Island.

FOR FURTHER INFORMATION CONTACT: Phoukham Vongkhamdy, State Conservationist, Natural Resources Conservation Service, 60 Quaker Lane, Suite 46, Warwick, RI 02886, telephone: (401) 828-1300.

SUPPLEMENTARY INFORMATION: The environmental assessment of this federally assisted action indicates that the project may cause significant local, regional, or national impacts on the environment. As a result of these findings, Phoukham Vongkhamdy, State Conservationist, has determined that the preparation and review of an environmental impact statement is needed for this project.

The project concerns flood prevention. Alternatives under consideration to reach these objectives include: A. Construction of six floodwall structures and flood proofing. B. No Action alternative.

A draft environmental impact statement will be prepared and circulated for review by agencies and the public. The Natural Resources Conservation Service invites participation and consultation of agencies and individuals that have special expertise, legal jurisdiction, or interest in the preparation of the draft environmental impact statement. Further information on the proposed action may be obtained from Phoukham Vongkhamdy, State Conservationist, at the above listed address or telephone (401) 828-1300.

Signed in Warwick, RI on July 1, 2009.
Phoukham Vongkhamdy,
State Conservationist.

(This activity is listed in the Catalog of Federal Domestic Assistance under No. 10.904—Watershed Protection and Flood Prevention—and is subject to the provisions of Executive Order 12372 which requires intergovernmental consultation with State and local officials.)

[FR Doc. E9-16337 Filed 7-9-09; 8:45 am]

BILLING CODE 3410-16-P